DEPARTMENT OF COMMERCE

International Trade Administration

[A-357-823, A-351-857, A-533-903, A-552-833]

Raw Honey From Argentina, Brazil, India, and the Socialist Republic of Vietnam: Antidumping Duty Orders

AGENCY: Enforcement and Compliance, International Trade Administration, Department of Commerce.

SUMMARY: Based on affirmative final determinations by the U.S. Department of Commerce (Commerce) and the U.S. International Trade Commission (ITC), Commerce is issuing antidumping duty orders on raw honey from Argentina, Brazil, India, and the Socialist Republic of Vietnam (Vietnam).

DATES: Applicable June 10, 2022.

FOR FURTHER INFORMATION CONTACT: Thomas Martin and Eva Kim (Argentina); Genevieve Coen (Brazil); Brittany Bauer and Benito Ballesteros (India); and Jonathan Hill and Paola Aleman Ordaz (Vietnam), AD/CVD Operations, Offices IV and V, Enforcement and Compliance, International Trade Administration, U.S. Department of Commerce, 1401 Constitution Avenue NW, Washington, DC 20230; telephone: (202) 482-3936, (202) 482-8283, (202) 482-3251, (202) 482-3860, (202) 482-7425, (202) 482-3518, or (202) 482-4031, respectively.

SUPPLEMENTARY INFORMATION:

Background

On April 14, 2022, Commerce published in the Federal Register its affirmative final determinations in the less-than-fair-value (LTFV) investigations of raw honey from Argentina, Brazil, India, and Vietnam.¹ On May 27, 2022, the ITC notified Commerce of its final determinations, pursuant to section 735(d) of the Tariff Act of 1930, as amended (the Act), that an industry in the United States is materially injured within the meaning of section 735(b)(1)(A)(i) of the Act by reason of LTFV imports of raw honey from Argentina, Brazil, India, and Vietnam, and of its determinations that critical circumstances exist with respect to dumped imports of raw honey from Vietnam and do not exist with respect to dumped imports of raw honey from Argentina.²

¹ See Raw Honey from Argentina: Final Determination of Sales at Less Than Fair Value and Final Affirmative Determination of Critical Circumstances, 87 FR 22179 (April 14, 2022); Raw Honey from Brazil: Final Determination of Sales at Less Than Fair Value, 87 FR 22182 (April 14, 2022) (Brazil Final Determination); Raw Honey from India: Final Determination of Sales at Less Than Fair Value and Final Negative Determination of Critical Circumstances, 87 FR 22188 (April 14, 2022) (India Final Determination); and Raw Honey from the Socialist Republic of Vietnam: Final Affirmative Determination of Sales at Less Than Fair Value and Final Affirmative Determination of Critical Circumstances, 87 FR 22184 (April 14, 2022) (Vietnam Final Determination).

² See ITC's Letter, Investigation Nos. 731-TA-1560-1562 and 731-TA-1564 (Final), dated May 27, 2022.

Scope of the Orders

The product covered by these orders is raw honey from Argentina, Brazil, India, and Vietnam. For a complete description of the scope of these orders, see the appendix to this notice.

Antidumping Duty Orders

On June 3, 2022, in accordance with section 735(d) of the Act, the ITC published in the Federal Register its final determinations in these investigations, in which it found that an industry in the United States is materially injured by reason of imports of raw honey from Argentina, Brazil, India, and Vietnam.³ Therefore, in accordance with sections 735(c)(2) and 736 of the Act, Commerce is issuing these antidumping duty orders. Because the ITC determined that imports of raw honey from Argentina, Brazil, India, and Vietnam are materially injuring a U.S. industry, unliquidated entries of such merchandise from Argentina, Brazil, India, and Vietnam, entered or withdrawn from warehouse for consumption, are subject to the assessment of antidumping duties.

³ See Raw Honey from Argentina, Brazil, India, and Vietnam, 87 FR 33831 (June 3, 2022).

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of raw honey from Argentina, Brazil, India, and Vietnam. With the exception of entries occurring after the expiration of the provisional measures period and before publication of the ITC's final affirmative injury determinations, as further described below, antidumping duties will be assessed on unliquidated entries of raw honey from Argentina, Brazil, and India entered, or withdrawn from warehouse, for consumption, on or after November 23, 2021, the date of publication of the Preliminary Determinations in the Federal Register.⁴ As further described below, antidumping duties will be assessed on unliquidated entries of raw honey from Vietnam entered, or withdrawn from warehouse, for consumption, on or after August 25, 2021, which is 90 days prior to the date of publication of the Vietnam Preliminary Determination.⁵

⁴ See Raw Honey from Argentina: Preliminary Affirmative Determination of Sales at Less Than Fair Value, Preliminary Affirmative Determination of Critical Circumstances, Postponement of Final Determination, and Extension of Provisional Measures, 86 FR 66531 (November 23, 2021) (Argentina Preliminary Determination); Raw Honey from Brazil: Preliminary Affirmative Determination of Sales at Less Than Fair Value, Postponement of Final Determination, and Extension of Provisional Measures, 86 FR 66533 (November 23, 2021); and Raw Honey from India: Preliminary Affirmative Determination of Sales at Less Than Fair Value, Preliminary Negative Determination of Critical Circumstances, Postponement of Final Determination, and Extension of Provisional Measures, 86 FR 66528 (November 23, 2021) (collectively, Preliminary Determinations).

⁵ See Raw Honey from the Socialist Republic of Vietnam: Preliminary Affirmative Determination of Sales at Less Than Fair Value, Postponement of Final Determination, and Extension of Provisional Measures, 86 FR 66526 (November 23, 2021); Raw Honey from the Socialistic Republic of Vietnam: Preliminary Affirmative Determination of Critical Circumstances in the Less-Than-Fair-Value Investigation, 87 FR 2127 (January 13, 2022); and Raw Honey from the Socialistic Republic of Vietnam: Preliminary Affirmative Determination of Critical Circumstances in the Less-Than-Fair-Value Investigation; Correction, 87 FR 7800 (February 10, 2022) (collectively, Vietnam Preliminary Determination).

Critical Circumstances

With respect to the ITC's negative critical circumstances determination on imports of raw honey from Argentina, we will instruct CBP to lift suspension and to refund any cash deposits made to secure the payment of estimated antidumping duties with respect to entries of the subject merchandise from Argentina entered, or withdrawn from warehouse, for consumption on or after August 25, 2021 (i.e., 90 days prior to the date of the publication of the Argentina Preliminary Determination), but before November 23, 2021 (i.e., the date of publication of the Preliminary Determinations).

Regarding Vietnam, the ITC found that critical circumstances exist with respect to imports subject to Commerce's affirmative critical circumstances finding within the meaning of section 735(b)(4)(A) of the Act. As a result of Commerce's affirmative critical circumstances determination under section 735(a)(3) of the Act, and the ITC's affirmative critical circumstances determination under section 735(b)(4)(A) of the Act, retroactive duties will be applied to the relevant imports for a period of 90 days prior to the suspension of liquidation.⁶ Therefore, in accordance with section 736(a)(1) of the Act, Commerce will direct CBP to assess, upon further instruction by Commerce, antidumping duties equal to the amount by which the normal value of the merchandise exceeds the export price (or constructed export price) of the merchandise for all relevant entries of raw honey from Vietnam. Antidumping duties will be assessed on unliquidated entries of raw honey from Vietnam for Ban Me Thuot Honeybee Joint Stock Company, Daklak Honeybee Joint Stock Company, the eligible separate rate companies, and the Vietnam-wide entity entered, or withdrawn from warehouse, for consumption on or after August 25, 2021, which is 90 days prior to the date of publication of the Vietnam Preliminary Determination, in accordance with the critical circumstances finding in the Vietnam Final Determination. Antidumping duties will not be assessed on any entries occurring after the expiration of the provisional measures period and before publication of the ITC's final affirmative injury determinations, as further described below.

⁶ See section 735(c)(4) of the Act; see also Statement of Administrative Action Accompanying the Uruguay Round Agreements Act, H.R. Doc. 103-316, Vol. 1 (1994), at 876 (“If both agencies make affirmative critical circumstances determinations in their final investigations, retroactive duties will be applied for a period ninety days prior to suspension of liquidation.”).

Continuation of Suspension of Liquidation

Except as noted in the “Provisional Measures” section of this notice, in accordance with section 736 of the Act, Commerce will instruct CBP to continue to suspend liquidation on all relevant entries of raw honey from Argentina, Brazil, India, and Vietnam. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. For Argentina, Brazil, and India, the relevant all-others rate applies to all producers or exporters not specifically listed. For Vietnam, the Vietnam-wide entity rate listed below applies to all exporters not specifically listed.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of exports of raw honey from Argentina, Brazil, India, and Vietnam, Commerce extended the four-month period to six months in these investigations. Commerce published the Preliminary Determinations on November 23, 2021.⁷

⁷ See Preliminary Determinations.

The extended provisional measures period, beginning on the date of publication of the Preliminary Determinations, ended on May 21, 2022. Therefore, in accordance with section 733(d) of the Act and our practice,⁸ Commerce will instruct CBP to terminate the suspension of liquidation and to liquidate, without regard to antidumping duties, unliquidated entries of raw honey from Argentina, Brazil, India, and Vietnam entered, or withdrawn from warehouse, for consumption after May 21, 2022, the final day on which the provisional measures were in effect, until and through the day preceding the date of publication of the ITC's final affirmative injury determinations in the Federal Register. Suspension of liquidation and the collection of cash deposits will resume on the date of publication of the ITC's final determinations in the Federal Register.

⁸ See, e.g., Certain Corrosion-Resistant Steel Products from India, India, the People's Republic of China, the Republic of Korea and Taiwan: Amended Final Affirmative Antidumping Determination for India and Taiwan, and Antidumping Duty Orders, 81 FR 48390, 48392 (July 25, 2016).

Estimated Weighted-Average Dumping Margins

The estimated weighted-average dumping margins are as follows:

Exporter/producer | Estimated weighted-average dumping margin (percent)
Argentina
Asociación De Cooperativas Argentinas Cooperativa Limitada | 24.67
NEXCO S.A | 9.17
Industrias Haedo S.A | 49.44
Compañía Inversora Platense S.A | 49.44
All Others | 16.92
Brazil
Melbras Importadora E Exportadora Agroindustrial Ltda | 7.89
Apiário Diamante Comercial Exportadora Ltda/Apiário Diamante Produção e Comercial de Mel Ltda (Supermel) ⁹ | 83.72
All Others | 7.89
India
Allied Natural Product | 6.24
Ambrosia Natural Products (India) Private Limited/Ambrosia Enterprise/Sunlite India Agro Producer Co. Ltd.¹⁰ | 5.52
All Others | 5.87
Vietnam
Ban Me Thuot Honeybee Joint Stock Company | 61.27
Daklak Honeybee Joint Stock Company | 58.74
Dak Nguyen Hong Exploitation of Honey Company Limited TA, Nguyen Hong Honey Co., LTDTA | 60.03
Nhieu Loc Company Limited | 60.03
Hoang Tri Honey Bee Company Limited (a.k.a. Hoang Tri Honey Bee Co., Ltd.), H. T Honey Co., Ltd | 60.03
Viet Thanh Food Technology Development Investment Company Limited, Viet Thanh Food Co., Ltd | 60.03
Dongnai HoneyBee Corporation | 60.03
Sai Gon Bees Limited Company, Saigon Bees Co., Ltd., Sai Gon Bees Co., Ltd | 60.03
Huong Rung Trading—Investment and Export Company, Huong Rung Co., Ltd | 60.03
Hai Phong Honeybee Company Limited | 60.03
Bao Nguyen Honeybee Co., Ltd | 60.03
Southern Honey Bee Company LTD | 60.03
Golden Bee Company Limited | 60.03
Thanh Hao Bees Company Limited | 60.03
Daisy Honey Bee Joint Stock Company, Daisy Honey Bee JSC, Daisy Honey Bee J.S.C | 60.03
Bee Honey Corporation of Ho Chi Minh City, Bee Honey Corp. of Ho Chi Minh City, Behonex Corp | 60.03
Phong Son Limited Company, Phong Son Co., Ltd | 60.03
Hoa Viet Honeybee One Member Company Limited, Hoa Viet Honey Bee Co., Ltd., Hoa Viet Honeybee Co., Ltd | 60.03
Vietnam-wide Entity | 60.03

Establishment of the Annual Inquiry Service Lists

⁹ For the final determination, Commerce found that these companies are affiliated within the meaning of section 771(33) of the Act and that they constitute a single entity pursuant to 19 CFR 351.401(f). See Brazil Final Determination.

¹⁰ For the final determination, Commerce found that Ambrosia Natural Products (India) Private Limited is affiliated with two additional companies, Ambrosia Enterprise, and Sunlite India Agro Producer Co. Ltd., within the meaning of section 771(33) of the Act and, further, found that these companies should be treated as a single entity, pursuant to 19 CFR 35l.401(f). See India Final Determination.

On September 20, 2021, Commerce published the final rule titled “Regulations to Improve Administration and Enforcement of Antidumping and Countervailing Duty Laws” in the Federal Register.¹¹ On September 27, 2021, Commerce also published the notice titled “Scope Ruling Application; Annual Inquiry Service List; and Informational Sessions” in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹³

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

¹³ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁴

¹⁴ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁵ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁵ See Final Rule, 86 FR at 52335.

Notification to Interested Parties

This notice constitutes the antidumping duty orders with respect to raw honey from Argentina, Brazil, India, and Vietnam pursuant to section 736(a) of the Act. Interested parties can find a list of antidumping duty orders currently in effect at https://enforcement.trade.gov/stats/iastats1.html.

These antidumping duty orders are published in accordance with section 736(a) of the Act and 19 CFR 351.211(b).

Dated: June 6, 2022.
Lisa W. Wang,
Assistant Secretary for Enforcement and Compliance.

Appendix

Scope of the Orders

The product covered by these orders is raw honey. Raw honey is honey as it exists in the beehive or as obtained by extraction, settling and skimming, or coarse straining. Raw honey has not been filtered to a level that results in the removal of most or all of the pollen, e.g., a level that removes pollen to below 25 microns. The subject products include all grades, floral sources and colors of raw honey and also include organic raw honey.

Excluded from the scope is any honey that is packaged for retail sale (e.g., in bottles or other retail containers of five (5) lbs. or less).

The merchandise subject to these orders is currently classifiable under statistical subheading 0409.00.0005, 0409.00.0035, 0409.00.0045, 0409.00.0056, and 0409.00.0065 of the Harmonized Tariff Schedule of the United States (HTSUS). Although the HTSUS subheadings are provided for convenience and customs purposes, the written description of the scope of these orders is dispositive.

[FR Doc. 2022-12498 Filed 6-9-22; 8:45 am]

BILLING CODE 3510-DS-P